DEPARTMENT OF HOUSING AND URBAN DEVELOPMENT

[Docket No. FR-5752-N-09]

30-Day Notice of Proposed Information Collection: Section 8 Renewal Policy Guide

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: March 3, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on July 30, 2013.

A. Overview of Information Collection

Title of Information Collection: Section 8 Renewal Policy Guide.

OMB Approval Number: 2502-0587.

Type of Request: Revision of a currently approved collection.

Form Number:

Contract Renewal Request Form (HUD-9624)(decreased usage).

OCAF Rent Adjustment Worksheet (HUD-9625)(decreased usage).

Comparability Study Comparison Worksheet, (HUD-9626) (Auto OCAF Letters).

Section 515 and Section 221 (d) (3) BMIR Worksheet (HUD-9627) (Auto OCAF Letters).

Other New Construction and Sub-Rehab Worksheet (HUD-9628).

Appraiser Certification (HUD-9629).

Rent Comparability Grid (HUD-9630).

One Year Notification Owner Does Not Intend to Renew (HUD-9631).

One Year Notification Letter Owner Intends to Renew (HUD-9632).

Use Agreement (HUD-9633).

Addendum to Agreement to Enter Into.

Housing Assistance Payments Contract (HUD-9634).

Appendix 15-3 Project Capital Needs Assessments and Replacement.

Reserve Escrow (HUD-9635).

Projects Preparing a Budget-Based Rent Increase (HUD-9636).

Basic Renewal Contract—One Year Term (HUD-9637).

Basic Renewal Contract—Multi-Year Term (HUD-9638).

Renewal Contract for Mark-Up-To-Market Project (HUD-9639).

Housing Assistance Payments Preservation Renewal Contract (HUD-9640).

Interim (Full) Mark-To-Market Renewal Contract (HUD-9641).

Interim (Lite) Mark-To-Market Renewal Contract (HUD-9642).

Full Mark-To-Market Renewal Contract (HUD-9643).

Watch List Renewal Contract (HUD-9644).

Project Based Assistance Payments Amendment Contract Moderate Rehabilitation (HUD-9645).

Project Based Section Housing Assistance Payments Extension of Renewal Contract (HUD-9646).

Consent to Assignment of HAP Contract as Security for Financing (HUD-9649).

Consent to Assignment of HAP Contract as Security for FNMA Financing (HUD-9651).

Request to Renew Using Non-Section 8 Units in the Section 8 Project as a Market Rent Ceiling (HUD-9652).

Request to Renew Using FMR's as Market Ceiling (HUD-9653).

Addendum to Renewal Contract (HUD-9654).

Rent Comparability Study (HUD-9655).

Rent Comparability Grid (HUD-9656).

Completing the Rent Comparability Grid (HUD-9657).

Required Contents for Rent Comparability Study (HUD-9658).

Project-Based Section 8 Housing Assistance Payments-During Rehabilitation (HUD-9913).

Project-Based Section 8 Housing Assistance Payments-Post Rehabilitation (HUD-9914).

Rider to Original Section 8 Housing Assistance Payments Contract (HUD-9915).

Description of the need for the information and proposed use: The modifications of the Section 8 renewal policy and recent legislation are implemented to address the essential requirement to preserving low income rental housing affordability and availability. The Section 8 Renewal Policy Guide will include recent legislation modifications for renewing of expiring Section 8 policy(ies) Guidebook, as authorized by the Code of Federal Regulations 24 CFR part 401 and 24 CFR part 402.

The Multifamily Housing Reform and Affordability Act of 1997 (MAHRA) for fiscal year 1998 (public law 105-65, enacted on October 27, 1997), required that expiring Section 8 project-based assistance contracts be renewed under MAHRA. Established in the MAHRA policies renewal of Section 8 project-based contracts rent are based on market rents instead of the Fair Market Rent (FMR) standard.

MAHRA renewals submission should include a Rent Comparability Study (RCS). If the RCS indicated rents were at or below comparable market rents, the contract was renewed at current rents adjusted by Operating Cost Adjustment Factor (OCAF), unless the Owner submitted documentation justifying a budget-based rent increase or participation in Mark-Up-To-Market. The case is that no renewal rents could exceed comparable market rents. If the RCS indicated rents were above comparable market rents, the contract was referred to the Office of Affordable Housing Preservation (OAHP) for debt restructuring and/or rent reduction.

The Preserving Affordable Housing for Senior Citizens and Families Into the 21st Century Act of 1999 (public law 106-74, enacted on October 20, 1999), modified MAHRA.

The Section 8 Renewal Policy Guide sets forth six renewal options from which a project owner may choose when renewing their expiring Section 8 contract: Option One—Mark-Up-To-Market, Option Two—Other Contract Renewal with Current Rents at or Below Comparable Market Rents, Option Three—Referral to the Office of Affordable Preservation (OAHP), Option Four- Renewal of Projects Exempted From OMHAR, Option Five—Renewal of Portfolio Reengineering Demonstration or Preservation Projects, and Option Six—Opt Outs.

Owners should select one of six options which are applicable to their project and should submit contract renewal on an annual basis to renew contract.

The Section 8 Renewal Guide sets forth six renewal options from which a project owner may choose when renewing their expiring Section 8 contracts.

Option One (Mark -Up- To-Market).

Option Two (Other Contract Renewals with Current Rents at or Below Comparable Market Rents.

Option Three (Referral to the Office of Multifamily Housing Assistant Restructuring—OHAP).

Option Four (Renewal of Projects Exempted from OHAP).

Option Five (Renewal of Portfolio Reengineering Demonstration or Preservation Projects)

Option Six (Opt-Outs).

Respondents (i.e. affected public): Business and Other for profit.

Estimated Number of Respondents: 25,439.

Estimated Number of Responses: 25,439.

Frequency of Response: On occasion.

Average Hours per Response: 1 hours.

Total Estimated Burdens: 24,680.

B. Solicitation of Public Comment

This notice is soliciting comments from members of the public and affected parties concerning the collection of information described in Section A on the following:

(1) Whether the proposed collection of information is necessary for the proper performance of the functions of the agency, including whether the information will have practical utility; (2) The accuracy of the agency's estimate of the burden of the proposed collection of information; (3) Ways to enhance the quality, utility, and clarity of the information to be collected; and (4) Ways to minimize the burden of the collection of information on those who are to respond; including through the use of appropriate automated collection techniques or other forms of information technology, e.g., permitting electronic submission of responses. HUD encourages interested parties to submit comment in response to these questions.

Authority: Section 3507 of the Paperwork Reduction Act of 1995, 44 U.S.C. Chapters 35.

Dated: January 23, 2014.
Colette Pollard,
Department Reports Management Officer, Office of the Chief Information Officer.

[FR Doc. 2014-02030 Filed 1-30-14; 8:45 am]

BILLING CODE 4210-67-P